GENERAL SERVICES ADMINISTRATION

[OMB Control No. 3090-XXXX; Docket No. 2022-0001; Sequence No. 11]

Information Collection; Generic Clearance for the Collection of the Government-Wide Pulse Survey

AGENCY: Office of Shared Services and Performance Improvement, Office of Government-Wide Policy, General Services Administration (GSA).

ACTION: Notice of request for comments regarding a new request for an OMB clearance.

SUMMARY: GSA is coordinating the development of the following proposed Generic Information Collection Request (Generic ICR): “Generic Clearance for the Collection of the Government-wide Pulse Survey” for approval under the Paperwork Reduction Act. This notice announces that GSA intends to submit this new collection to the Office of Management and Budget (OMB) for approval and will solicit comments on specific aspects for the proposed information collection.

DATES: Submit comments on or before August 29, 2022.

ADDRESSES: Submit comments identified by “Information Collection 3090-XXXX Generic Clearance for the Collection of the Government-wide Pulse Survey” to http://www.regulations.gov.

Submit comments via the Federal eRulemaking portal by searching for “3090-XXXX Generic Clearance for the Collection of the Government-wide Pulse Survey”. Select the link “Comment” that corresponds with “3090-XXXX Generic Clearance for the Collection of the Government-wide Pulse Survey”. Follow the instructions provided on the screen. Please include your name, company name (if any), and “3090-XXXX Generic Clearance for the Collection of the Government-wide Pulse Survey” on your attached document. If your comment cannot be submitted using regulations.gov, call or email the points of contact in the FOR FURTHER INFORMATION CONTACT section of this document for alternate instructions.

Instructions: Please submit comments only and cite “Information Collection 3090-XXXX Generic Clearance for the Collection of the Government-wide Pulse Survey”, in all correspondence related to this collection. Comments received generally will be posted without change to http://www.regulations.gov, including any personal and/or business confidential information provided. To confirm receipt of your comment(s), please check www.regulations.gov, approximately two-to- three days after submission to verify posting.

FOR FURTHER INFORMATION CONTACT: Trey Bradley, Program Director, Strategic Data Initiatives, Organization, at telephone 202-716-6410 or via email to trey.bradley@gsa.gov.

SUPPLEMENTARY INFORMATION:

A. Purpose

GSA's Office of Shared Solutions and Performance Improvement (OSSPI) improves mission delivery and implementation of the Administration's priorities by bringing the government together to drive innovation, foster collaboration, and shape effective policy. Working through its three functional areas of Executive Council management, Shared Services, and the President's Management Agenda (PMA) team, OSSPI's vision is to be a trusted partner delivering on the Administration priorities by unifying the government as one Federal enterprise.

Because of our PMA responsibilities, GSA played a key role in FY2022 governmentwide pilot managing a series of Pulse surveys—described in greater detail below.

As the Federal workforce adjusts to the post-Pandemic environment, we have a unique, time-sensitive moment to rigorously learn about what enables Federal employees to thrive—informing our strategy for decades to come on the future of work.

Better understanding what employees need to do their job and supporting them in this can result in improved mission delivery and experience of our customers, a fundamental principle the private sector has believed in for decades. A central management survey approach and service will provide information to improve Federal employee experience and mission delivery.

Pulse surveys also provide a much faster turnaround time for the analysis of government-wide survey data—making data available for decision making within weeks (or even days), not months, of survey implementation to deliver more actionable information. In addition, these Pulses are short, discrete surveys, minimizing burden on Federal respondents.

Given the large scale of the planned pulse surveys, we can build a “test and learn” approach to these pulses. For example, in the pilot we used A/B testing to see whether different framing or the “sent from” branding affects response rates and answers.

As the effort moves into its second year, the data will be an important source of information for the PMA and the Government-Wide Learning Agenda and will identify government-wide issues and priorities and support agency action planning.

Thought leadership for this effort will be provided by OMB, OPM, GSA, and the Harvard University's People Lab. The work will be executed by OSSPI staff and colleagues in GSA's Office of Evidence and Analysis, supplemented by contractor support.

We plan to continue the Pulse initiative that began as a government-wide pilot in FY2022. These “pulse” surveys are short surveys asked at regular cadence to enable comparison and in collaboration with the 24 CFO Act Agencies to generate actionable data within a short turnaround time on some timely, cross-cutting questions. We will conduct a series of pulses with both trended and unique questions. Some of the unique questions, as indicated above, will be designed for A/B testing.

These questions will be related to the President's Management Agenda or the Government-Wide Learning Agenda. For example, during the pilot, questions covered three themes:

(1) Employee engagement (presenting questions that are highly predictive of turnover and burnout)

(2) Reentry (understanding expectations and concerns about the return to office plans)

(3) Equity and inclusion (including understanding current support systems and pain points)

Here are other specifics around how we plan to share the data:

• The items and the results of the items will be made publicly available for Federal agencies to assess their scores to identify areas for improvement;

• The general public, including researchers and the media, will also have access to this information;

• The collections are voluntary;

• Access to completed surveys will be limited to GSA and OPM staff and contractors who are involved in collecting and/or preparing the information for further analysis at OMB and distribution to other agencies:

• Information is only shared for the for the whole population and for certain subgroups. Neither federal agencies nor the public will receive data by subgroups that could be used to identify a specific individual or a person's specific response to a survey question.

The Agency has established a manager/managing entity to serve for this generic clearance and will conduct an independent review of each information collection to ensure compliance with the terms of this clearance prior to submitting each collection to OMB.

Survey information will be collected through web surveys. The survey population is civilian federal employees of the CFO Act Agencies. The survey is voluntary.

The government-wide Pulse surveys occupy an important niche for Federal data collection efforts. They are distinct from the other government-wide survey efforts, which are typically multi-year efforts with fixed content. Pulse surveys are more agile with questions that can be tailored to issues relevant to the PMA and the Government-wide Learning Agenda and evolve based on conditions on the ground. Moreover, to our knowledge, none of the CFO Act Agencies are currently conducting Pulse surveys to inform agency learning agendas, so the Pulse represents an important source of information for them. The pulse can also act as an early warning signal on critical issues (e.g., reentry, diversity, burnout).

This survey only applies to the CFO Act Agencies. Moreover, the Pulse surveys are short (approximately three or four questions) and consist of three pulses conducted throughout the fiscal year.

Without pulse surveys, it will be difficult to measure changes employee sentiment on critical PMA issues in a short time frame. Having three pulses allows us to trend questions as conditions change.

Technical experts will review and approve the survey content.

Some questions may be asked that are of a personal or sensitive nature (e.g., questions on Diversity, Equity, Inclusion, and Accessibility).

B. Annual Reporting Burden

Respondents: 367,000.

Responses Per Respondent: 1.

Total Annual Responses: 3.

Hours per Response: 0.0106 (38 seconds).

Total Burden Hours: 11,621.67.

C. Public Comments

GSA invites comments on: whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division by calling 202-501-4755 or emailing GSARegSec@gsa.gov. Please cite OMB Control No. “3090-XXXX Generic Clearance for the Collection of the Government-wide Pulse Survey” in all correspondence.

Beth Anne Killoran,
Deputy Chief Information Officer.

[FR Doc. 2022-13988 Filed 6-29-22; 8:45 am]

BILLING CODE 6820-14-P